DEPARTMENT OF HOMELAND SECURITY

Federal Emergency Management Agency

[Docket ID: FEMA-2025-0377; OMB No. 1660-0085]

Agency Information Collection Activities: Proposed Collection; Comment Request; Crisis Counseling Assistance and Training Program

AGENCY: Federal Emergency Management Agency, Department of Homeland Security.

ACTION: 60-Day notice of extension and request for comments.

SUMMARY: The Federal Emergency Management Agency (FEMA), as part of its continuing effort to reduce paperwork and respondent burden, invites the general public to take this opportunity to comment on an extension, without change, of a currently approved information collection. In accordance with the Paperwork Reduction Act of 1995, this notice seeks comments concerning the Crisis Counseling Assistance and Training Program, which provides federal funding in response to a State or Federally recognized Tribe's request for Crisis Counseling services for a presidentially declared major disaster.

DATES: Comments must be submitted on or before April 13, 2026.

ADDRESSES: To avoid duplicate submissions to the docket, please submit comments at www.regulations.gov under Docket ID FEMA-2025-0377. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Heather Spadaro, State-Led Disaster Services Section, Individual Assistance Division, FEMA, 202-646-3642, and FEMA-HQ-IA-SDB-SLDS@fema.dhs.gov. You may contact the Information Management Division for copies of the proposed collection of information at email address: FEMA-Information-Collections-Management@fema.dhs.gov.

SUPPLEMENTARY INFORMATION: Section 416 of the Robert T. Stafford Disaster Relief and Emergency Assistance Act, (Pub. L. 93-288, as amended and codified at 42 U.S.C. 5183) (“Act”), authorizes the President to provide professional counseling services, including financial assistance to States (which includes the fifty states, the District of Columbia, and the U.S. territories), Federally recognized Indian Tribal governments, local agencies or private mental health organizations for professional counseling services, to survivors of major disasters to relieve mental health problems caused or aggravated by a major disaster or its aftermath. The implementing regulations for Section 416 of the Stafford Act are at 44 CFR 206.171. Under 44 CFR 206.171 and by agreement, the U.S. Department of Health and Human Services-Center for Mental Health Services (HHS-CMHS), which has expertise in crisis counseling, coordinates with FEMA in administering the Crisis Counseling Assistance and Training Program (CCP). FEMA and HHS-CMHS provide program oversight, technical assistance, and training to States and Federally recognized Tribes applying for CCP funding for major disasters. The information submitted in the application is disaster-specific. The information submitted is used in the consideration of the following: funding for community outreach services, public education on behavioral health matters, group and individual crisis counseling, and resource and referral information (including coping techniques).

Collection of Information

Title: Crisis Counseling Assistance and Training Program.

Type of Information Collection: Extension, without change, of a currently approved information collection.

OMB Number: 1660-0085.

FEMA Forms: FEMA Form FF-104-FY-21-148 (formerly 003-0-1), Crisis Counseling Assistance and Training (ISP) Application; FEMA Form FF-104-FY-21-149 (formerly 003-0-2), Crisis Counseling Assistance and Training Program, Regular Services Program (RSP) Application; ISP Final Report Narrative; RSP Quarterly Final RSP Report Narrative. Final RSP Report Narrative.

Abstract: The CCP consists of two grant programs, the ISP and RSP. The ISP and RSP provide supplemental funding to States and Federally recognized Tribes following a Presidentially declared major disaster under the Stafford Act. These grant programs provide funding for training and services, including community outreach, public education, and counseling techniques. States and Federally recognized Tribes are required to submit an application that provides information on Needs Assessment, Plan of Service, Program Management, and an accompanying Budget. The information being collected from both forms will be used to determine if existing resources are adequate to meet the behavioral health needs of disaster survivors and to determine if supplemental funds for crisis counseling services are necessary. Additionally, the information gathered from these forms will help to ensure the program's objectives are met and grants are properly administered in accordance with all applicable laws and regulations.

Affected Public: State, Local or Tribal Government.

Estimated Number of Respondents: 90.

Estimated Number of Responses: 108.

Estimated Total Annual Burden Hours: 1,728.

Estimated Total Annual Respondent Cost: $185,379.

Estimated Respondents' Operation and Maintenance Costs: $0.

Estimated Respondents' Capital and Start-Up Costs: $0.

Estimated Total Annual Cost to the Federal Government: $200,501.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Nigel S. Allicock,
Records Management Branch Chief, Office of the Chief Administrative Officer, Mission Support, Federal Emergency Management Agency, Department of Homeland Security.

[FR Doc. 2026-02679 Filed 2-10-26; 8:45 am]

BILLING CODE 9111-24-P